DEPARTMENT OF THE INTERIOR

Fish and Wildlife Service

[FWS-R5-R-2011-N006; BAC-4311-K9-S3]

Sunkhaze Meadows National Wildlife Refuge, Penobscot, Kennebec, and Waldo Counties, ME, and Carlton Pond Waterfowl Production Area, Waldo County, ME; Comprehensive Conservation Plan and Environmental Assessment

AGENCY: Fish and Wildlife Service, Interior.

ACTION: Notice of intent; request for comments.

SUMMARY: We, the U.S. Fish and Wildlife Service (Service), intend to prepare a comprehensive conservation plan (CCP) and environmental assessment (EA) for Sunkhaze Meadows National Wildlife Refuge (NWR) and Carlton Pond Waterfowl Production Area (WPA). We provide this notice in compliance with our CCP policy to advise other Federal and State agencies, Tribes, and the public of our intentions, and to obtain suggestions and information on the scope of issues to consider in the planning process.

DATES: To ensure consideration, please send your written comments by April 30, 2011. We will announce opportunities for public input in local news media throughout the CCP process.

ADDRESSES: Send your comments or requests for more information by any one of the following methods.

E-mail: northeastplanning@fws.gov. Include “Sunkhaze Meadows NWR CCP” in the subject line of the message.

Fax: Attention: Lia McLaughlin, 413-253-8468.

U.S. Mail: Lia McLaughlin, U.S. Fish and Wildlife Service, 300 Westgate Center Drive, Hadley, MA 01035.

In-Person Drop-off: You may drop off comments during regular business hours at 9 Water Street, Rockland, ME 04841. Comments can also be dropped off at Milford Town Hall, 62 Davenport Street, Milford, ME 04461.

FOR FURTHER INFORMATION CONTACT: Beth Goettel, 207-594-0600 (phone); Beth_Goettel@fws.gov (e-mail).

SUPPLEMENTARY INFORMATION:

Introduction

With this notice, we initiate our process for developing a CCP for Sunkhaze Meadows NWR, located in Kennebec, Penobscot, and Waldo Counties, ME, and Carlton Pond WPA, located in Waldo County, ME. This notice complies with our CCP policy to: (1) Advise other Federal and State agencies, Tribes, and the public of our intention to conduct detailed planning on this refuge, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for Tribal, State, and local governments; agencies; organizations; and the public. At this time we encourage input in the form of issues, concerns, ideas, and suggestions for the future management of Sunkhaze Meadows NWR and Carlton Pond WPA.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Sunkhaze Meadows National Wildlife Refuge and Carlton Pond Waterfowl Production Area

Sunkhaze Meadows NWR is comprised of three units: The Sunkhaze Meadows Unit, the Benton Unit, and the Sandy Stream Unit. The Sunkhaze Meadows Unit is the largest of the three, at 11,485 acres. It is located in the Town of Milford, Penobscot County, ME, approximately 14 miles north of Bangor. The Benton Unit is a 334-acre former dairy farm in the Town of Benton in Kennebec County. The Sandy Stream Unit is a 58-acre parcel in the Town of Unity in Waldo County.

The refuge was established in 1988 to ensure the ecological integrity of the Sunkhaze Meadows peat bog and the continued availability of its wetland, stream, forest, and wildlife resources to the citizens of the United States. The purpose of acquisition, under the authority of the Fish and Wildlife Act of 1956 was “for the development, advancement, management, conservation, and protection of fish and wildlife resources” and “for the benefit of the United States Fish and Wildlife Service, in performing its activities and services.” The Land and Water Conservation Fund was the source of funding for the purchase.

The Sunkhaze Meadows Unit protects the second-largest peatland in Maine. Sunkhaze Stream bisects this unit along a northeast-to-southwest orientation and, with its six tributaries, creates a diversity of wetland communities. The bog and stream wetlands, along with the adjacent uplands and associated transition zones, provide important habitat for many wildlife species. The Benton Unit is comprised of grassland, young mixed softwood-hardwood forest, and small wetland habitats. A variety of landbird species of conservation concern are known to breed there, including American woodcock, red-winged blackbird, and bobolink. The Sandy Stream Unit is mainly comprised of upland shrub, abandoned fields, and floodplain forest. The tidewater mucket and yellow lampmussel, two mussel species listed as threatened by the State of Maine, have been observed at the Sandy Stream Division. Combined, the three units provide habitat for at least three plants, seven birds, two mollusks, and three invertebrates listed as endangered or threatened by the State of Maine.

Carlton Pond WPA is a 1,055-acre artificial impoundment located in the town of Troy in Waldo County. The area was acquired by the Service in 1966 to protect the waterfowl and other wildlife associated with this area in central Maine. Carlton Pond WPA has historically provided good nesting habitat for waterfowl and other birds, and is one of the few areas in the State that provides nesting habitat for the black tern, which is State-listed as endangered. Many bird species that use Carlton Pond have been listed by the Partners-in-Flight organization as species that are declining. Slender blue flag iris, a plant species listed as threatened by the State of Maine, has also been observed at Carlton Pond.

Scoping: Preliminary Issues, Concerns, and Opportunities

We have identified preliminary issues, concerns, and opportunities that we may address in the CCP. We have briefly summarized these issues below. During public scoping, we may identify additional issues.

(1) Ecoregional or ecosystem-wide issues, such as climate change, regional land conservation, and protection of water quality throughout the Penobscot River watershed;

(2) Biological program issues, such as habitat and species management needs, protection, restoration, monitoring, inventories, and research;

(3) Public use program issues, such as the breadth and quality of programs, public access, user conflicts, and use impacts on natural resources;

(4) Infrastructure and staffing issues, such as appropriateness of facilities, safety, accessibility, and additional staffing needs;

(5) Community relations and outreach issues and opportunities, such as increasing local awareness of the refuge and NWRS;

(6) Coordination and communication issues and opportunities with Federal, State, and Tribal Governments and with nongovernmental conservation partners; and

(7) Potential for both wilderness and wild and scenic rivers designations on refuge lands.

Public Meetings

We will give the public an opportunity to provide input at one or more public meetings. You can obtain the schedule from the planning team leader or refuge manager (see ADDRESSES). You may also send comments anytime during the planning process by mail, e-mail, or fax (see ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: February 16, 2011.
Salvatore M. Amato,
Acting Regional Director, U.S. Fish and Wildlife Service, Hadley, MA 01035.

[FR Doc. 2011-6373 Filed 3-17-11; 8:45 am]

BILLING CODE 4310-55-P